NUCLEAR REGULATORY COMMISSION

[Docket No. 50-460]

Energy Northwest; Nuclear Project No. 1 (WNP-1) Environmental Assessment and Finding of No Significant Impact

The U.S. Nuclear Regulatory Commission (NRC) is considering issuance of an extension of the latest construction completion date specified in Construction Permit No. CPPR-134 issued to Washington Public Power Supply System (permittee) for the Nuclear Project No. 1 (WNP-1). As part of this proposed action, the staff will update the permit to reflect an administrative change in the permit holder's name from the Washington Public Power Supply System to Energy Northwest. The facility is located at Energy Northwest's site on the Department of Energy's Hanford Reservation in Benton County, Washington, approximately eight miles north of Richland, Washington.

Environmental Assessment

Identification of Proposed Action

The proposed action would extend the latest construction completion date of Construction Permit No. CPPR-134 from June 1, 2001 to June 1, 2011, and update the permit to reflect an administrative change in the permit holder's name from the Washington Public Power Supply System to Energy Northwest. The proposed action is in response to Energy Northwest's request dated April 9, 2001.

The Need for the Proposed Action

The proposed action is needed to grant the licensee the option of completing construction on WNP-1 in the future. Energy Northwest requested the extension for WNP-1 because some of its stakeholders requested that a viability study be conducted on the completion of the facility. The request was made, in part, because of the increase in the electrical load in the Pacific Northwest. Until the viability study is completed and decisions on generating options to meet future load forecasts are finalized, Energy Northwest would like to maintain completing WNP-1 as an option.

Environmental Impacts of the Proposed Action

The environmental impacts associated with the construction of the facility have been previously discussed and evaluated in the Final Environmental Statement (FES), NUREG-75/012, March 1975, prepared as part of the NRC staff's review of the construction permit application. Because of the passage of time from the issuance of the FES, the staff requested additional information in a June 22, 2001, letter to Energy Northwest, to determine if the conclusions reached in the March 1975 FES remain valid. Energy Northwest responded to these questions in a letter dated November 27, 2001.

In its November 27, 2001, response, Energy Northwest addressed the impact of resumption of construction in the following areas: hstoric and culturally significant sites, disturbance of land and the Columbia River bed, socioeconomic impacts, additional cumulative impacts from other projects in the area, threatened and endangered species, and National Monuments. Highlights of Energy Northwest's response follow. Energy Northwest stated that no additional historic or culturally significant sites have been identified in areas that might be affected by the resumption of construction activities. Regarding disturbance of land and the Columbia River bed, Energy Northwest stated that resumption of construction would not require disturbance of any land that had not already been disturbed prior to the cessation of construction in 1983, and no disturbance of the riverbed or shoreline would be required by the resumption of construction.

Regarding the socioeconomic impacts of WNP-1 construction, Energy Northwest noted that the population in the area has grown and the public infrastructure has grown as well. Energy Northwest concludes that “[c]ompared to 1975, the estimated socioeconomic impacts of WNP-1 construction would be the same or less.” Regarding additional cumulative impacts from other projects in the area, Energy Northwest noted that it has no plans for other activities that could contribute to additional cumulative impacts. Energy Northwest did note that the U.S. Department of Energy has plans to construct a waste vitrification plant on the Hanford Site to process radioactive wastes presently stored in tanks. Energy Northwest states that no cumulative impact to the natural environment is anticipated if both construction of WNP-1 and the vitrification plant were pursued concurrently. It did note that it is possible that there would be an incremental stress on the local infrastructure.

Regarding threatened and endangered species, the staff provided two tables in its June 22, 2001, letter providing a list of species identified in the 1975 FES that have been listed as threatened or endangered by the Fish and Wildlife Service and a list of endangered species based on information from the Environmental Protection Agency that may occur in Benton and Franklin Counties. In its November 27, 2001, response, Energy Northwest noted that “[r]esumption of construction activities at WNP-1 would not be expected to cause adverse impacts to any listed aquatic or terrestrial species or their habitats. In-river construction work and all significant earthmoving activities have been completed. Experience at the neighboring Columbia Generating Station (having the same intake and outfall design) suggest that water withdrawals and discharges during construction and operation will not harm aquatic species.”

Energy Northwest also responded to a question regarding a recent Presidential Action to create a National Monument in the area near the WNP-1 construction site. In its November 27, 2001, response, Energy Northwest described the boundaries of the Hanford Reach National Monument that was designated by Presidential proclamation on June 9, 2000, noting that the monument generally includes a 1/4 mile corridor along the river in the vicinity of the WNP-1 site. In addition to the river corridor, the monument designation includes about 305 square miles that nearly circumscribe central Hanford. The areas leased by Energy Northwest for intake structures for WNP-1 and the Columbia Generating Station are included in the monument. Energy Northwest notes that construction activities at WNP-1 would not occur on or near the monument. However, there would be typical maintenance type activities within the WNP-1 makeup water pumphouse area. Based on Energy Northwest's November 27, 2001, response, the staff has determined that the conclusions reached in the March 1975 FES remain valid.

The construction of WNP-1 is approximately 65 percent complete; therefore, most of the construction impacts discussed in the FES have already occurred. This action would extend the period of construction as described in the FES and update the name of the construction permit holder. It does not involve any different impacts as described and analyzed in the environmental report and will not involve any different impacts from those described and analyzed in the environmental report. The proposed amendment will not allow any work to be performed that is not already allowed by the existing construction permit. The extension will grant Energy Northwest more time to complete construction in accordance with the previously approved construction permit. The change in the corporate name from the Washington Public Power Supply System to Energy Northwest is administrative in nature. The legal corporate status of the construction permit holder has not changed.

Based on the foregoing, the NRC staff has concluded that the proposed action would have no significant environmental impact. Because this action would only extend the period of construction activities described in the FES, it does not involve any different impacts or a significant change to those impacts described and analyzed in the environmental report. Consequently, an environmental impact statement addressing the proposed action is not required.

Alternatives to the Proposed Action

A possible alternative to the proposed action would be to deny the request. This would result in expiration of the construction permit for WNP-1. This option would require submittal of another application for construction in order to allow the permittee to complete construction of the facility with no significant environmental benefit. The environmental impacts of the proposed action and alternative action are similar.

Alternative Use of Resources

This action does not involve the use of resources not previously considered in the FES for WNP-1.

Agencies and Persons Contacted

In accordance with its stated policy, on January 17, 2002, the staff consulted with the Washington State Official, Mr. Michael Mills of the Energy Facility Site Evaluation Council regarding the environmental impact of the proposed action. The State official had the following comment: “Energy Northwest has an active Site Certification Agreement with the State of Washington that would allow, subject to amendment, WNP-1 to be constructed and operated. The State also maintains regulatory oversight of activities at the site.”

Finding of No Significant Impact

On the basis of the environmental assessment, the NRC concludes that this action will not have a significant effect on the quality of the human environment. Accordingly, the NRC has determined not to prepare an environmental impact statement for this action.

For further details with respect to this action, see the licensee's request for extension dated April 9, 2001, and its response to the staff's request for additional information dated November 27, 2001. Documents may be examined, and/or copied for a fee, at the NRC's Public Document Room, located at One White Flint North, 11555 Rockville Pike (first floor), Rockville, Maryland. Publicly available records will be accessible electronically from the ADAMS Public Library component on the NRC Web site, http:\\www.nrc.gov (the Electronic Reading Room).

Dated at Rockville, Maryland this 24th day of January 2002.
For the Nuclear Regulatory Commission.
Marsha K. Gamberoni,
Deputy Director, New Reactor Licensing Project Office, Office of Nuclear Reactor Regulation.

[FR Doc. 02-2204 Filed 1-29-02; 8:45 am]

BILLING CODE 7590-01-P